POSTAL REGULATORY COMMISSION

[Docket No. MC2016-118; Order No. 3223]

Mail Classification Change

AGENCY: Postal Regulatory Commission.

ACTION: Notice.

SUMMARY: The Commission is noticing a recent Postal Service filing concerning material changes to the Mail Classification Schedule that would revise the competitive product description for Outbound Priority Mail International. This notice informs the public of the filing, invites public comment, and takes other administrative steps.

DATES: Comments are due: April 15, 2016.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Notice of Commission Action

III. Ordering Paragraphs

I. Introduction

Pursuant to 39 CFR 3020.80-.83, the Postal Service filed a formal request and associated supporting information to make material changes to the Mail Classification Schedule (MCS) that would revise the competitive product description for Outbound Priority Mail International in section 2315 of the MCS.¹ The Request involves Priority Mail International Flat Rate Envelopes and Priority Mail International Small Flat Rate Boxes being dispatched in the air parcel stream instead of the letter post stream. Request at 1.

¹ Request of the United States Postal Service for Changes in the Mail Classification Schedule to Revise the Dispatch Stream for Priority Mail International Flat Rate Envelopes and Priority Mail International Small Flat Rate Boxes from the Letter Post Stream to the Air Parcel Stream, April 7, 2016 (Request).

To support its Request, the Postal Service filed a copy of the Governors' Decision authorizing the Request, the proposed changes to the applicable sections of the MCS, and an application for non-public treatment of certain materials filed under seal. It also filed supporting financial workpapers to show that the changes will not result in the violation of 39 U.S.C. 3633 and 39 CFR 3015.5. Id. at 2.

II. Notice of Commission Action

The Commission establishes Docket No. MC2016-118 to consider the Request pertaining to the proposed mail classification changes for Priority Mail International Flat Rate Envelopes and Priority Mail International Small Flat Rate Boxes.

The Commission invites comments on whether the Postal Service's filing is consistent with the policies of 39 U.S.C. 3632, 3633, or 3642, 39 CFR part 3015, and 39 CFR part 3020, subpart E. Comments are due no later than April 15, 2016. The public portions of the filing can be accessed via the Commission's Web site (http://www.prc.gov).

The Commission appoints Katalin K. Clendenin to serve as Public Representative in this docket.

III. Ordering Paragraphs

It is ordered:

1. The Commission establishes Docket No. MC2016-118 to consider the matters raised in the Request.

2. Pursuant to 39 U.S.C. 505, Katalin K. Clendenin is appointed to serve as an officer of the Commission to represent the interests of the general public in this proceeding (Public Representative).

3. Comments are due no later than April 15, 2016.

4. The Secretary shall arrange for publication of this order in the Federal Register.

By the Commission.
Stacy L. Ruble,
Secretary.

[FR Doc. 2016-08522 Filed 4-12-16; 8:45 am]

BILLING CODE 7710-FW-P